DEPARTMENT OF LABOR

Occupational Safety and Health Administration

[Docket No. C-08]

Nationwide Site-Specific Targeting (SST) Inspection Program

AGENCY: Occupational Safety and Health Administration (OSHA), Department of Labor.

ACTION: Request for comments; extension of comment period.

SUMMARY: OSHA is extending the deadline for receipt of public comments on its Request for Comments for its nationwide site-specific targeting (SST) inspection program to August 11, 2004. This action is in response to interested parties who have requested additional time.

DATES: Comments and data must be submitted by August 11, 2004. Comments submitted by mail must be postmarked no later than August 11, 2004.

ADDRESSES: Send two copies of your comments to the OSHA Docket Office, Docket No. C-08, Technical Data Center, Room N-2625, OSHA, U.S. Department of Labor, 200 Constitution Avenue, NW., Washington, DC 20210; telephone (202) 693-2350. OSHA Docket Office and Department of Labor hours of operation are 8:15 a.m. to 4:45 p.m., EDT. Comments of 10 pages or fewer may be faxed to the OSHA Docket Office at the following FAX number; (202) 693-1648, provided that the original and one copy are sent to the Docket Office immediately thereafter.

You may also submit comments electronically to http://ecomments.osha.gov. Information such as studies and journal articles cannot be attached to electronic submissions and must be submitted in duplicate to the docket office address listed above. Such attachments must clearly identify the respondent's electronic submission by name, date, and subject, so that they can be attached to the correct submission.

FOR FURTHER INFORMATION CONTACT: Richard E. Fairfax, Occupational Safety and Health Administration, Directorate of Enforcement Programs, Room N-3119, U.S. Department of Labor, 200 Constitution Avenue, NW., Washington, DC 20210, Telephone 202-693-2100. For electronic copies of this Federal Register notice, contact OSHA's Web page on the Internet at http://www.osha.gov.

SUPPLEMENTARY INFORMATION: OSHA published a request for comments on its nationwide site-specific targeting (SST) inspection program on May 6, 2004 (69 FR 25445). In that notice, OSHA provided a 60-day period for the public to submit comments, extending through July 6, 2004. OSHA received a request from the United States Chamber of Commerce to extend the comment period for submitting comments. OSHA is interested in obtaining the best possible information that it can from the public. Accordingly, written comments must now be submitted by August 11, 2004.

Authority: This document is issued under sec. 8(a) and 8(b), Pub. L. 91-596, 84 Stat. 1599 (29 U.S.C. 656).

Signed At Washington, DC this 6th day of July, 2004.
John L. Henshaw,
Assistant Secretary of Labor.

[FR Doc. 04-15670 Filed 7-9-04; 8:45 am]

BILLING CODE 4510-26-M